DEPARTMENT OF ENERGY

Federal Energy Regulatory Commission

[Docket No. EL13-88-000]

Northern Indiana Public Service Company v. Midcontinent Independent System Operator, Inc. and PJM Interconnection, LLC; Notice of Request for Comments

February 12, 2015.

On September 11, 2013, Northern Indiana Public Service Company (NIPSCO) filed a complaint against Midcontinent Independent System Operator, Inc. (MISO) and PJM Interconnection, LLC (PJM). NIPSCO requested that the Commission order MISO and PJM to reform the interregional planning process of the Joint Operating Agreement between MISO and PJM (MISO-PJM JOA).¹ On December 18, 2014, the Commission issued an order directing Commission staff to convene a technical conference to explore issues raised in the Complaint related to the MISO-PJM JOA and the MISO-PJM seam. The Commission also directed Commission staff to issue a request for comments on these issues prior to the technical conference to inform the technical conference discussion.²

¹ NIPSCO Complaint, Docket No. EL13-88-000 (filed Sept. 11, 2013).

² Northern Indiana Public Service Co. v. Midcontinent Indep. Sys. Operator, Inc. and PJM Interconnection, LLC, 149 FERC ¶ 61,248, at P 35 (2014).

Shown below is the list of questions for which Commission staff seeks comment. The questions cover the six reforms that NIPSCO recommends to the cross-border transmission planning process that occurs under the MISO-PJM JOA, as well as certain additional issues. Commenters should discuss the potential benefits and/or drawbacks, cost concerns, and technical feasibility of implementing the following reforms and how long the reforms would take to implement if adopted.

1. Require the MISO-PJM cross-border transmission planning process to run concurrently with the MISO and PJM regional transmission planning cycles, rather than after those regional planning cycles.

2. Require MISO and PJM to develop and use a single model that uses the same assumptions in the cross-border transmission planning process. Until the joint model is developed, require that there is consistency between the PJM and MISO planning analysis and that both entities are consistent in their application of reliability criteria and modeling assumptions.

3. Require MISO and PJM to use a single common set of criteria to evaluate cross-border market efficiency projects.

4. Require MISO and PJM to amend the criteria to evaluate cross-border market efficiency projects to address all known benefits, including avoidance of future market-to-market (M2M) payments made to reallocate short-term transmission capacity in the real-time operation of the system.

5. Require MISO and PJM to have a process for joint planning and cost allocation of lower voltage and lower cost cross-border upgrades.

6. Require MISO and PJM to improve the processes within the MISO-PJM JOA with respect to new generator interconnections and generation retirements.

7. Explain the relationship between the cross-border transmission planning process (and approval of new transmission projects) and persistent M2M payments being made between the RTOs. Are persistent M2M payments a good indicator of the need for new transmission?

8. NIPSCO provides an estimate of M2M payments on pages 23-24 of its Complaint. Please comment on these estimates and provide information on other estimates of M2M payments, including whether PJM, MISO and the market monitors have identified trends in M2M payments.

9. Please provide examples of transmission projects that have been considered under the cross-border transmission planning process for the purpose of mitigating congestion and/or constraints that lead to persistent M2M payments, but that have not been developed. Provide the reason the project was not developed.

Interested parties should submit comments on or before March 16, 2015. Reply comments must be filed on or before March 31, 2015. Comments should be provided by question as enumerated above.

ADDRESSES: Parties may submit comments, identified by Docket No. EL13-88-000, by one of the following methods.

Agency Web site: http://www.ferc.gov/. Follow the instructions for submitting comments via the eFiling link found under the “Documents and Filing” tab.

Mail: Those unable to file comments electronically may mail or hand-deliver comments to: Federal Energy Regulatory Commission, Secretary of the Commission, 888 First Street NE., Washington, DC 20426.

FOR FURTHER INFORMATION CONTACT:

Jason Strong (Technical Information), Federal Energy Regulatory Commission, Office of Energy Market Regulation, 888 First Street NE., Washington, DC 20426, (202) 502-6124, jason.strong@ferc.gov.

Ben Foster (Technical Information) Federal Energy Regulatory Commission, Office of Energy Policy and Innovation, 888 First Street NE., Washington, DC 20426, (202) 502-6149, ben.foster@ferc.gov.

Lina Naik (Legal Information), Federal Energy Regulatory Commission, Office of the General Counsel, 888 First Street NE., Washington, DC 20426 (202) 502-8882, lina.naik@ferc.gov.

Nathaniel J. Davis, Sr.,
Deputy Secretary.

[FR Doc. 2015-03438 Filed 2-18-15; 8:45 am]

BILLING CODE 6717-01-P